FEDERAL DEPOSIT INSURANCE CORPORATION

Sunshine Act Meetings

Notice of Meeting To Be Held With Less Than Seven Days Advance Notice

TIME AND DATE: 10:00 a.m. on July 15, 2025.

PLACE: This Board meeting will be open to public observation by webcast. Visit https://www.fdic.gov/news/board-matters/video.html for a link to the webcast. Members of the media should contact the Office of Communications by Monday, July 14, at mediarequests@fdic.gov to attend in person. FDIC Board Members and staff will participate from FDIC Headquarters, 550 17th Street NW, Washington, DC.

Observers requiring auxiliary aids (e.g., sign language interpretation) should email DisabilityProgram@fdic.gov to make necessary arrangements.

STATUS: Open to public observation via webcast.

MATTERS TO BE CONSIDERED: The Federal Deposit Insurance Corporation's (FDIC) Board of Directors will meet to consider the following matters:

Discussion Agenda

Notice regarding Proposed Amendments to FDIC Guidelines for Appeals of Material Supervisory Determinations.

Notice of Proposed Rulemaking regarding Adjusting and Indexing Part 363 and Certain Other FDIC Regulatory Thresholds.

Request for Information regarding Industrial Banks and Industrial Loan Companies and Their Parent Companies.

Summary Agenda

No substantive discussion of the following items is anticipated. The Board of Directors will resolve these matters with a single vote unless a member of the Board requests that an item be moved to the discussion agenda.

Memoranda of Actions Previously Distributed.

Notice of Proposed Rulemaking regarding Community Reinvestment Act Regulations.

Notice of Proposed Rulemaking regarding Establishment and Relocation of Branches and Offices.

Notice regarding Parent Companies of Industrial Banks and Industrial Loan Companies; Withdrawal of Proposed Rule.

Notice regarding Regulatory Publication and Review Under the Economic Growth and Regulatory Paperwork Reduction Act of 1996.

CONTACT PERSON FOR MORE INFORMATION: For further information, please contact Debra A. Decker, Executive Secretary, FDIC, at FDICBoardMatters@fdic.gov.

(Authority: 5 U.S.C. 552b.)

Dated at Washington, DC, on July 9, 2025.
Federal Deposit Insurance Corporation.
Debra A. Decker,
Executive Secretary.

[FR Doc. 2025-13014 Filed 7-9-25; 4:15 pm]

BILLING CODE 6714-01-P